DEPARTMENT OF ENERGY

Federal Energy Regulatory Commission

Combined Notice of Filings #1

Take notice that the Commission received the following electric corporate filings:

Docket Numbers: EC17-64-000.

Applicants: Orange and Rockland Utilities, Inc.

Description: Revised Exhibit A to January 19, 2017 Application of Orange and Rockland Utilities, Inc. for order pursuant to Section 203 of the Federal Power Act.

Filed Date: 1/31/17.

Accession Number: 20170131-5422.

Comments Due: 5 p.m. ET 2/14/17.

Take notice that the Commission received the following electric rate filings:

Docket Numbers: ER17-415-001.

Applicants: California Independent System Operator Corporation.

Description: Compliance filing: 2017-01-31 Petition Limited Waiver Administrative Pricing Enhancements Amendment to be effective N/A.

Filed Date: 1/31/17.

Accession Number: 20170131-5369.

Comments Due: 5 p.m. ET 2/21/17.

Docket Numbers: ER17-912-000.

Applicants: Arizona Public Service Company.

Description: § 205(d) Rate Filing: Limited Section 205 Filing-Modify PBOP Base Expense in Transmission Formula to be effective 4/23/2016.

Filed Date: 1/31/17.

Accession Number: 20170131-5364.

Comments Due: 5 p.m. ET 2/21/17.

Docket Numbers: ER17-913-000.

Applicants: Consolidated Edison Company of New York, Inc.

Description: § 205(d) Rate Filing: ConEd Filing for New Rate Year 2/2017 to be effective 2/1/2017.

Filed Date: 2/1/17.

Accession Number: 20170201-5000.

Comments Due: 5 p.m. ET 2/22/17.

Docket Numbers: ER17-914-000.

Applicants: Southern California Edison Company.

Description: § 205(d) Rate Filing: Revision to ADIT Calculation in SCE?s Formula Transmission Rate Tariff to be effective 4/3/2017.

Filed Date: 2/1/17.

Accession Number: 20170201-5001.

Comments Due: 5 p.m. ET 2/22/17.

Take notice that the Commission received the following public utility holding company filings:

Docket Numbers: PH17-10-000.

Applicants: Riverstone Holdings LLC, Pattern Energy Group LP.

Description: Riverstone Holdings LLC, et al. submits FERC 65-B Waiver Notification.

Filed Date: 1/31/17.

Accession Number: 20170131-5413.

Comments Due: 5 p.m. ET 2/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2017.
Nathaniel J. Davis, Sr.,
Deputy Secretary.

[FR Doc. 2017-02517 Filed 2-7-17; 8:45 am]

BILLING CODE 6717-01-P